COMMITTEE FOR PURCHASE FROM PEOPLE WHO ARE BLIND OR SEVERELY DISABLED

Procurement List Additions and Deletions

AGENCY: Committee for Purchase From People Who Are Blind or Severely Disabled.

ACTION: Additions to and Deletions From Procurement List.

SUMMARY: This action adds to the Procurement List services to be furnished by nonprofit agencies employing persons who are blind or have other severe disabilities, and deletes from the Procurement List services previously furnished by such agencies.

DATES: Effective Date: December 25, 2005.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, Telephone: (703) 603-7740, Fax: (703) 603-0655, or e-mail SKennerly@jwod.gov.

SUPPLEMENTARY INFORMATION:

Additions

On September 23 and September 30, 2005, the Committee for Purchase From People Who Are Blind or Severely Disabled published notice (70 FR 55816, and 57254) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services, Child Development Centers, Buildings 44401, 45400, and 45410, Fort Gordon, Georgia.

NPA: Good Vocations, Inc., Macon, Georgia.

Contracting Activity: U.S. Army Contracting Agency, Fort McPherson, Georgia.

Service Type/Location: Janitorial/Custodial, USDA, Animal and Plant Health Inspection Service/PPQ, Asian Longhorn Beetle Project, 3920 N. Rockwell, Chicago, Illinois.

NPA: Habilitative Systems, Inc., Chicago, Illinois.

Contracting Activity: USDA, Animal & Plant Health Inspection Service, Minneapolis, MN.

Deletions:

On September 30, 2005, the Committee for Purchase From People Who Are Blind or Severely Disabled published notice (70 FR 57254) of proposed deletions to the Procurement List.

After consideration of the relevant matter presented, the Committee has determined that the services listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the services to the Government.

3. There are no known regulatory alternatives which would accomplish the objectives of the Javits-Wagner-O'Day Act (41 U.S.C. 46-48c) in connection with the services deleted from the Procurement List.

End of Certification

Accordingly, the following services are deleted from the Procurement List:

Services

Service Type/Location: Base Supply Center, Bangor Naval Submarine Base, Bangor, Washington.

NPA: Peninsula Services, Bremerton, Washington.

Contracting Activity: Fleet and Industrial Supply Center, Puget Sound, Washington.

Service Type/Location: Base Supply Center, Everett Naval Station, Everett Home Port, Everett, Washington.

NPA: Peninsula Services, Bremerton, Washington.

Contracting Activity: Fleet and Industrial Supply Center, Puget Sound, Washington.

Service Type/Location: Base Supply Center, Whidbey Island Naval Air Station, Oak Harbor, Washington.

NPA: Peninsula Services, Bremerton, Washington.

Contracting Activity: Fleet and Industrial Supply Center, Puget Sound, Washington.

Sheryl D. Kennerly,
Director, Information Management.

[FR Doc. E5-6518 Filed 11-23-05; 8:45 am]

BILLING CODE 6353-01-P